DEPARTMENT OF COMMERCE

National Oceanic and Atmospheric Administration

50 CFR Part 622

RIN 0648-BD86

Fisheries of the Caribbean, Gulf of Mexico, and South Atlantic; Coastal Migratory Pelagic Resources in the Gulf of Mexico and Atlantic Region; Amendment 20B

AGENCY: National Marine Fisheries Service (NMFS), National Oceanic and Atmospheric Administration (NOAA), Commerce.

ACTION: Notice of availability; request for comments.

SUMMARY: The Gulf of Mexico (Gulf) and South Atlantic Fishery Management Councils (Councils) have submitted Amendment 20B to the Fishery Management Plan for the Coastal Migratory Pelagic Resources (CMP) in the exclusive economic zone (EEZ) of the Gulf of Mexico and Atlantic Region (FMP) (Amendment 20B) for review, approval, and implementation by NMFS. Amendment 20B includes actions to modify Gulf migratory group king mackerel trip limits and fishing years, allow transit through areas closed to king mackerel fishing, create zones and quotas for Atlantic migratory group king and Spanish mackerel, modify the framework procedures for the FMP, increase annual catch limits (ACLs) for cobia, and create an east coast zone and quotas for Gulf migratory group cobia.

DATES: Written comments must be received on or before December 16, 2014.

ADDRESSES: You may submit comments on Amendment 20B, identified by “NOAA-NMFS-2014-0176” by any of the following methods:

• Electronic Submission: Submit all electronic public comments via the Federal e-Rulemaking Portal. Go to www.regulations.gov/#!docketDetail;D=NOAA-NMFS-2014-0176, click the “Comment Now!” icon, complete the required fields, and enter or attach your comments.

• Mail: Submit written comments to Susan Gerhart, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of Amendment 20B, which includes an environmental assessment, a Regulatory Flexibility Act analysis, and a regulatory impact review, may be obtained from the Southeast Regional Office Web site at http://sero.nmfs.noaa.gov/sustainable_fisheries/gulf_sa/cmp/index.html.

FOR FURTHER INFORMATION CONTACT: Susan Gerhart, Southeast Regional Office, NMFS, telephone: 727-824-5305; email: Susan.Gerhart@noaa.gov.

SUPPLEMENTARY INFORMATION: The Magnuson-Stevens Fishery Conservation and Management Act (Magnuson-Stevens Act) requires each regional fishery management council to submit any FMP or amendment to NMFS for review and approval, partial approval, or disapproval. The Magnuson-Stevens Act also requires that NMFS, upon receiving a plan or amendment, publish an announcement in the Federal Register notifying the public that the plan or amendment is available for review and comment.

The FMP being revised by Amendment 20B was prepared by the Councils and implemented through regulations at 50 CFR part 622 under the authority of the Magnuson-Stevens Act.

Background

The current management regime for CMP species (king mackerel, Spanish mackerel, and cobia) includes two migratory groups for each species, the Gulf migratory group and the Atlantic migratory group. Each migratory group is managed separately. Amendment 20B includes changes and additions to fishing regulations for each migratory group to allow for more targeted management of CMP species.

Actions Contained in Amendment 20B

Amendment 20B contains actions to modify Gulf migratory group king mackerel trip limits and fishing years, allow transit through areas closed to king mackerel fishing, create zones and quotas for Atlantic migratory group king and Spanish mackerel, modify the framework procedures for the FMP, increase ACLs for cobia, and create an east coast zone and quotas for Gulf migratory group cobia.

Gulf Migratory Group King Mackerel Commercial Hook-and-Line Trip Limits

The Gulf eastern zone's Florida west coast subzone is comprised of two subzones, northern and southern. Currently, from July 1, each fishing year, until 75 percent of the respective northern or southern subzone's hook-and-line gear quota has been harvested, the commercial trip limit is 1,250 lb (567 kg) per day. From the date that 75 percent of the respective northern or southern subzone's hook-and-line gear quota has been harvested, the trip limit is reduced to 500 lb (227 kg) per day, until a closure of the respective northern or southern subzone is implemented. Amendment 20B would remove the trip limit reduction to 500 lb (227 kg), which would allow the harvest of 1,250 lb (567 kg) per day until the quota for the subzone has been met or projected to be met and the respective subzone is closed to king mackerel harvest.

Gulf Migratory Group Eastern Zone Northern and Southern Subzone King Mackerel Fishing Years

Currently the Florida west coast northern subzone fishing year begins July 1 and ends on June 30, or when the quota is reached or projected to be reached. Amendment 20B would change the Florida west coast northern subzone fishing year to October 1 through September 30. Because the Councils did not select a preferred alternative for the southern subzone, the fishing year in that zone will remain July through June.

Transit Through Areas Closed to King Mackerel

Currently, persons who fish with a commercial vessel permit for king mackerel may not fish for or possess king mackerel in a closed zone. Amendment 20B would allow vessels with king mackerel to transit through areas that are closed to king mackerel fishing as the result of a quota closure.

Atlantic Migratory Group King and Spanish Mackerel Zones

Currently, there is one commercial quota for Atlantic migratory group king mackerel and one commercial quota for Atlantic migratory group Spanish mackerel. Amendment 20B would create northern and southern zones for Atlantic migratory group king and Spanish mackerel, each with separate commercial quotas. The boundary between the zones would be a line extending from the South Carolina/North Carolina state line, with commercial quota allocation between the zones based on landings from the 2002/2003-2011/2012 fishing years. The northern zone allocation would be calculated using combined commercial landings from North Carolina, Virginia, Maryland, Delaware, Pennsylvania, New Jersey, and New York. The southern zone allocation would be calculated using combined commercial landings from South Carolina, Georgia, and the Florida east coast and Florida Keys on the Atlantic side. NMFS would monitor the commercial quotas, and close Federal waters in each zone when the respective quota is reached or projected to be reached. Transfer of quota between zones would be allowed through a request to NMFS initiated by North Carolina (northern Zone) or Florida (southern Zone). The recreational ACLs for Atlantic migratory group king and Spanish mackerel will remain unchanged.

Modifications to the FMP Framework Procedures

Currently, any changes to acceptable biological catches (ABCs) and ABC control rules, ACLs and ACL control rules, and accountability measures must be established through a plan amendment. Amendment 20B would modify the framework procedures for the FMP. The changes would allow modification to the management measures described above under the standard documentation process of the open framework procedure. Amendment 20B would also modify the framework procedures to the FMP to allow the appropriate council (Gulf or South Atlantic) with jurisdiction for proposed management measures to approve framework amendments establishing those management measures without approval from the other council.

Cobia Zones, ACLs, and Annual Catch Targets (ACTs)

Amendment 20B addresses the results of the most recent stock assessment for Gulf and South Atlantic cobia. In Amendment 18 to the FMP, the Councils established separate migratory groups of cobia using the Councils' boundary in Monroe County. However, the most recent stock assessment determined that the biological boundary should be at the Florida/Georgia line. The stock assessment results define Georgia north through the Mid-Atlantic area for the Atlantic migratory group, and the entire east coast of Florida through Texas for the Gulf migratory group. To adjust for this difference between the Councils' jurisdictional areas for cobia and the areas used by the stock assessment, Gulf migratory group cobia would be divided into a Gulf zone (Texas through the Gulf side of the Florida Keys) and an east coast zone (east coast of Florida and Atlantic side of the Florida Keys, i.e., the area within the South Atlantic Council's jurisdiction). The Gulf ACL would be allocated between the zones based on landings from the 1998-2012 fishing years. The South Atlantic Council would be responsible for regulations for the east coast zone, similar to management of the east coast subzone for king mackerel. Amendment 20B would also increase the ACLs for both migratory groups, the recreational ACT for the Atlantic migratory group, and the stock ACT for the Gulf zone.

A proposed rule that would implement measures outlined in Amendment 20B has been drafted. In accordance with the Magnuson-Stevens Act, NMFS is evaluating the proposed rule to determine whether it is consistent with the FMP, the Magnuson-Stevens Act, and other applicable law. If that determination is affirmative, NMFS will publish the proposed rule in the Federal Register for public review and comment.

Consideration of Public Comments

The Council submitted Amendment 20B for Secretarial review, approval, and implementation on May 22, 2014. Comments received by December 16, 2014, whether specifically directed to the amendment or the proposed rule, will be considered by NMFS in its decision to approve, disapprove, or partially approve the amendment. Comments received after that date will not be considered by NMFS in this decision. All comments received by NMFS on the amendment or the proposed rule during their respective comment periods will be addressed in the final rule.

Authority: 16 U.S.C. 1801 et seq.

Dated: October 14, 2014.
Alan D. Risenhoover,
Director, Office of Sustainable Fisheries, National Marine Fisheries Service.

[FR Doc. 2014-24689 Filed 10-16-14; 8:45 am]

BILLING CODE 3510-22-P